DEPARTMENT OF DEFENSE

Department of the Army, Corps of Engineers

Notice of Intent To Prepare an Environmental Impact Statement for the North of Lake Okeechobee Storage Reservoir Section 203 Study, Highlands County, Florida

AGENCY: U.S. Army Corps of Engineers, Department of the Army, DoD.

ACTION: Notice of intent to prepare a Draft Environmental Impact Statement for South Florida Water Management District's (SFWMD) North of Lake Okeechobee Storage Reservoir (also known as the “Lake Okeechobee Component A Reservoir (LOCAR) Section 203 Study”), Highlands County, Florida.

SUMMARY: The Jacksonville District, U.S. Army Corps of Engineers (Corps) intends to prepare a National Environmental Policy Act (NEPA) assessment for the North of Lake Okeechobee Storage Reservoir Section 203 Study that is being conducted by the Non-Federal Interest, the SFWMD. The SFWMD is beginning preparation of a feasibility study pursuant to section 203 of the Water Resources Development Act (WRDA) of 1986, as amended, for submission to the Assistant Secretary of the Army for Civil Works (ASA(CW)). The Corps intends to support the ASA(CW) review of the SFWMD's study by preparing a NEPA assessment concurrent with the SFWMD feasibility study and prior to the ASA(CW)'s review. The SFWMD Section 203 feasibility study will be for Component A, a 200,000 acre-foot above ground storage reservoir to capture water from the Kissimmee River prior to it flowing into Lake Okeechobee, to pull water in from Lake Okeechobee during high water levels, and to take in basin flows. The purpose of the study is to document anticipated improvements to the quantity, timing, and distribution of water flows to help manage lake levels and improve lake ecology by detaining water during wet periods for later use in the dry periods and to enhance water supply reliability to realize the benefits envisioned in the Comprehensive Everglades Restoration Plan (CERP). The purpose of the associated NEPA is to complete the Federal compliance requirements related to the Section 203 study for use by the Non-Federal Interest in completing the Section 203 Report.

DATES: Written comments must be submitted by May 24, 2023. A scoping meeting will be held on April 27, 2023.

ADDRESSES: To ensure the Corps has sufficient time to consider public input in the preparation of the Draft EIS, scoping comments should be submitted by email to LOCAR@usace.army.mil or by surface mail to U.S. Army Corps of Engineers, Planning and Policy Division, Environmental Branch, 701 San Marco Blvd., Jacksonville, FL 32207.

FOR FURTHER INFORMATION CONTACT: Gretchen Ehlinger at 904-232-1665 or email at LOCAR@usace.army.mil. Additional information is also available at www.sfwmd.gov/LOCAR.

SUPPLEMENTARY INFORMATION:

Background: The Everglades ecosystem, including Lake Okeechobee, encompasses a system of diverse surface water and wetland landscapes that are hydrologically and ecologically connected across more than 200 miles from north to south and across 18,000 square miles of southern Florida. In 2000, the U.S. Congress authorized the Federal government, in partnership with the State of Florida, to embark upon a multi-decade, multi-billion-dollar Comprehensive Everglades Restoration Plan (CERP) to further protect and restore the remaining Everglades ecosystem while providing for other water-related needs of the region. CERP involves modification of the existing network of drainage canals and levees that make up the Central and Southern Florida (C&SF) Project by implementation of 68 project components. Since CERP was approved, progress has been made in the planning, design, construction, and operation of south Florida ecosystem restoration projects. To enable further progress, additional storage north of Lake Okeechobee located in the Kissimmee River Region is critically important for benefits to Lake Okeechobee, such as improved water levels, lake ecology, and additional required water storage and water supply as identified in the C&SF Project Comprehensive Review Study Final Integrated Feasibility Report and Programmatic Environmental Impact Statement (Yellow Book 1999) component A. There is an ongoing effort in the implementation of CERP to identify opportunities to restore the quantity, quality, timing, and distribution of flows into Lake Okeechobee. Water inflows into Lake Okeechobee greatly exceed outflow capacity; thus, many times there is too much water within Lake Okeechobee that needs to be released to ensure the ecological integrity of the lake, which affects the estuaries that receive the water. Lake levels that are too high or too low, and inappropriate recession and ascension rates, can adversely affect native vegetation and fish and wildlife species that depend upon the lake for foraging and reproduction. The volume and frequency of undesirable freshwater releases to the east and west lowers salinity in the estuaries, severely impacting oysters, seagrasses, and fish. Additionally, high nutrient levels adversely affect in-lake water quality, estuary habitat, and habitat throughout the greater Everglades.

Proposed Action: The objectives of the LOCAR study are to develop a plan to improve the quality, quantity, timing, and distribution of water entering Lake Okeechobee; provide for better management of lake water levels; reduce damaging releases to the Caloosahatchee and St. Lucie estuaries; and improve system-wide operational flexibility.

Alternatives: The study will identify, evaluate, and recommend to decision makers an appropriate and coordinated solution for additional above ground storage of 200,000 acre-feet to capture water from the Kissimmee River prior to it flowing into Lake Okeechobee, to pull water in from Lake Okeechobee during high water levels, and to take in basin flows. Alternatives will include no action and alternatives that include several reservoir footprints and associated improvements, levees, pump stations, water control structures, emergency overflow and recreational features. By this Notice, the public is invited to identify potential alternatives, information, and analyses relevant to the proposed action.

Summary of Expected Impacts: Long-term beneficial and adverse impacts are expected. Adverse impacts are expected from conversion of habitat that may be used by certain threatened and endangered species (for example, the crested caracara, Florida grasshopper sparrow, bonneted bats, and Florida panther) to reservoir storage and other components. Significant beneficial impacts to Lake Okeechobee and the Northern Estuaries are expected from the additional 200,000 acre-feet of water storage north of Lake Okeechobee. Therefore, an EIS is being proposed.

Environmental Review and Consultation Requirements: The proposed project will be reviewed for compliance with laws that would be applicable to a Federal project, including but not limited to the following: the Coastal Zone Management Act, Endangered Species Act, Fish and Wildlife Coordination Act, Clean Water Act, Clean Air Act, Farmland Protection Policy Act, and National Historic Preservation Act.

NEPA Schedule: The Draft Environmental Impact Assessment is expected to be available for public review in fall 2023. A 45-day public review period will be provided for interested parties and agencies to review and comment on this draft document. All interested parties are encouraged to respond to this notice and provide a current address if they wish to be notified of the Draft EIS circulation. A Record of Decision would be approved and signed no earlier than 30 days after the published Final EIS.

Public Involvement and Scoping: A scoping letter will be used to invite comments from Federal, State, and local agencies; affected Federally recognized Native American groups; and other interested private organizations and individuals. A scoping meeting will be held on April 27, 2023, from 2:00 to 4:00 p.m. and again from 6:00 to 8:00 p.m. at the Indian River State College Dixon Hendry Campus, 2229 NW 9th Ave., Okeechobee, Florida 34972. The formal portion of the workshop will begin at 3:00 p.m. and 7:00 p.m. respectively. Following the scoping meeting, individuals who have not already submitted their comments should submit them within 30 days of publication of this Notice for consideration in the draft Section 203 report/environmental documentation by either email to LOCAR@usace.army.mil or mail to U.S. Army Corps of Engineers, Planning and Policy Division, Environmental Branch, 701 San Marco Blvd., Jacksonville, FL 32207.

Daniel H. Hibner,
Brigadier General, U.S. Army, Commanding.

[FR Doc. 2023-08522 Filed 4-21-23; 8:45 am]

BILLING CODE 3720-58-P